SMALL BUSINESS ADMINISTRATION

Investment Capital Advisory Committee

AGENCY: Small Business Administration (SBA).

ACTION: Notice of the establishment of the Investment Capital Advisory Committee.

SUMMARY: The SBA announces the establishment of the Investment Capital Advisory Committee. The Administrator has determined that establishing the Investment Capital Advisory Committee is necessary and in the public interest.

DATES: The Investment Capital Advisory Committee will operate for two years after the filing date of its charter that will meet the 15-days requirements of the Federal Register Notice, unless otherwise renewed in accordance with FACA.

FOR FURTHER INFORMATION CONTACT: Investment Capital Advisory Committee Designated Federal Officer, Jennifer Shieh, Director of Ecosystem Development, Office of Investment and Innovation, ICAC@sba.gov.

SUPPLEMENTARY INFORMATION: This notice announces the establishment of the Investment Capital Advisory Committee as a Federal Advisory Committee in accordance with the Federal Advisory Committee Act (Pub. L. 92-463, 5 U.S.C. app. 2) to provide information, advice, and recommendations to the Administrator on matters broadly related to facilitating greater access and availability of patient investment capital for small business; promoting greater awareness of SBA investment and innovation division programs and services; cultivating greater public-private engagement, cooperation, and collaboration; developing and/or evolving SBA programs and services to address long-term capital access gaps faced by small businesses and the investment managers that seek to support them. The Committee will only undertake tasks assigned to it by the Administrator. The Federal Register Notice will be published 15 days prior to filing the charter with Congress.

This notice is provided in accordance with the Federal Advisory Committee Act.

Dated: July 25, 2022.
Andrienne Johnson,
Committee Management Officer.

[FR Doc. 2022-16243 Filed 7-28-22; 8:45 am]

BILLING CODE 8026-09-P